OFFICE OF SPECIAL COUNSEL

[Previous Control No. 3255-0003]

Modification of OSC Annual Survey

AGENCY: Office of Special Counsel.

ACTION: Notice for public comment.

SUMMARY: The U.S. Office of Special Counsel (OSC) seeks approval from the Office of Management and Budget (OMB) for use of a 2019 survey that differs slightly in process and timing from a previously approved information collection, OSC's annual survey. The prior OMB approval for the annual survey expired November 30, 2016. As required by statute, since 1994 OSC has conducted an annual survey collecting feedback from those who have filed complaints/disclosures with OSC. The prior surveys required 12 minutes to complete. The proposed OSC 2019 survey consists of a single electronic questionnaire with eleven questions that requires 5.5 minutes to complete. The prior annual surveys could only be sent after OSC closed the individual's complaint or disclosure file. The timing therefore deprived OSC of useful feedback about how individuals perceive OSC as they are in the process of working or engaging with OSC. Congress authorized this 2019 survey (and suspended the previously approved annual survey), so OSC could collect feedback from individuals who file complaints or disclosures with OSC while their cases or queries are open. See the OSC Reauthorization Act of 2017, Public Law 115, Sec. 1097. OSC is requesting emergency approval for the proposed 2019 survey, which by statute must be completed by the end of FY2019.

DATES: Written comments should be received on or before August 29, 2019. However, pursuant to 5 CFR 1320.13, OSC is requesting OMB's emergency approval by August 5, 2019. Comments should therefore be communicated to OMB within 5 days of this notice's publication in the Federal Register.

ADDRESSES: You may submit written comments by mail to: Office of Information and Regulatory Affairs, Office of Management and Budget, Attention: Desk Officer for OSC, New Executive Office Building, Room 10235, Washington, DC 20503; or by email via: oira_submission@omb.eop.gov.

FOR FURTHER INFORMATION CONTACT: Susan Ullman, General Counsel of the U.S. Office of Special Counsel, by telephone at (202) 804-7000, or by email at sullman@osc.gov.

SUPPLEMENTARY INFORMATION: OSC is a permanent independent federal investigative and prosecutorial agency. OSC's basic authorities come from four federal statutes: The Civil Service Reform Act, the Whistleblower Protection Act, the Hatch Act, and the Uniformed Services Employment & Reemployment Rights Act (USERRA). OSC's primary mission is to safeguard the merit system by protecting federal employees and applicants from prohibited personnel practices, especially reprisal for whistleblowing, and to serve as a safe channel for allegations of wrongdoing.

OSC is required to conduct an annual survey of individuals who seek its assistance. Under Section 13 of Public Law 103-424 (1994), codified at 5 U.S.C. 1212 note, OSC distributed prior annual surveys after the conclusion of cases. OSC sent four separate questionnaires to four categories of complainants and whistleblowers, asking (1) whether the respondent was fully apprised of their rights; (2) if their claim was successful at OSC or at the MSPB; and (3) successful or not, if they were satisfied with the service received from OSC. OSC reported the results in its annual report.

The OSC Reauthorization Act of 2017, Public Law 115-91, Sec. 1097, required OSC to suspend its existing survey obligations in order to allow OSC to design a survey to “collect [ ] information and improv[e] service at various stages of [OSC's] review or investigation.” The proposed 2019 survey is a single questionnaire consisting of 11 questions to be asked of individuals who have filed a complaint or disclosure with OSC. The 2019 survey asks respondents to identify the stage of their complaint or disclosure; the outcome, if closed; to rate their interactions with OSC staff, including whether OSC was responsive to communications, the frequency and clarity of OSC communications, whether the respondent had the opportunity to provide additional information, and whether OSC allowed the respondent to ask further questions; to rate their overall experience; and to offer any suggestions for improvement.

As required by the Paperwork Reduction 1995, (Pub. L. 104-13, 44 U.S.C. chapter 35) as amended by the Clinger-Cohen Act (Pub. L. 104-106), OSC is soliciting comments for this survey because it collects information. Current and former Federal employees, employee representatives, other Federal agencies, state and local government employees, and the general public are invited to comment on: (a) The accuracy of OSC's estimate of the burden of the proposed collection of information; (b) ways to enhance the quality, utility, and clarity of the information to be collected; and (c) ways to minimize the burden of the collection of information on respondents.

The OSC Reauthorization Act also requires OSC to publish the 2019 survey's results in OSC's annual report to Congress. Copies of prior years' annual reports are available on OSC's website, at https://osc.gov/Pages/Resources-ReportsAndInfo.aspx or by calling OSC at (202) 804-7000. The prior OSC Annual Survey, OMB Control Number 3255-0003, expired on November 30, 2016.

OSC is requesting emergency approval of this modified collection of information, as the 2019 survey must be completed and reviewed by the end of FY2019. As with the prior approved survey, the 2019 survey will be hosted by Survey Monkey (https://www.surveymonkey.com). The 2019 survey questionnaires are available for review online at https://osc.gov/Pages/Resources-ReportsAndInfo.aspx or by calling OSC at (202) 804-7000.

Type of Information Collection Request: Approval of a re-designed survey collecting information aimed at enabling OSC to improve service at various stages of its review or investigation and thereby better accomplish OSC's mission.

Affected Public: Filers (or their representatives) seeking OSC services through (1) filing complaints alleging prohibited personnel practice or Hatch Act violations; (2) seeking Hatch Act advisory opinions; or (3) making disclosures of information alleging gross mismanagement or waste; a violation of law, rule, or regulation; abuse of authority; a substantial and specific danger to public health or safety; or censorship related to scientific research.

Respondent's Obligation: Voluntary.

Estimated Annual Number of Survey Form Respondents: 500.

Frequency of Survey Form Use: One-time.

Estimated Average Amount of Time for a Person to Respond to Survey: 5.5 minutes.

Estimated Annual Survey Burden: 45.8 hours.

Dated: July 25, 2019.
Bruce Gipe,
Chief Operating Officer.

[FR Doc. 2019-16144 Filed 7-29-19; 8:45 am]

BILLING CODE 7405-01-P